SURFACE TRANSPORTATION BOARD

[Docket No. FD 36453]

SRC Railway LLC—Lease and Operation Exemption—Strasburg Rail Road Company

SRC Railway LLC (Railway LLC), a noncarrier, has filed a verified notice of exemption pursuant to 49 CFR 1150.31 to lease from Strasburg Rail Road Company (SRC) and operate approximately 4.25 miles of rail line known as the Strasburg Line in Lancaster County, Pa. (the Line). The Line extends from approximately quarter-milepost 20 at Leaman Place (immediately north of the underpass at U.S. Highway 30 and west of the interchange connection with Norfolk Southern Railway Company and the National Railroad Passenger Corporation (NRPC milepost 56.8)), southwesterly to quarter-milepost 3 at East Strasburg.

This transaction is related to a concurrently filed verified notice of exemption in Strasburg Rail Road Company—Continuance in Control Exemption—SRC Railway LLC, Docket No. FD 36454, in which SRC seeks to continue in control of Railway LLC upon Railway LLC's becoming a Class III rail carrier.

Railway LLC states that it will shortly execute agreements with SRC pursuant to which it will lease the Line from SRC. According to Railway LLC, the proposed agreements do not contain any provision that would limit future interchange on the Line with a third-party connecting carrier.

Further, Railway LLC certifies that its projected annual revenue will not exceed $5 million and will not result in Railway LLC becoming a Class I or II rail carrier.

The earliest this transaction may be consummated is January 20, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 12, 2021.

All pleadings, referring to Docket No. FD 36453, should be filed with the Surface Transportation Board via e-filing on the Board's website. In addition, a copy of each pleading must be served on Railway LLC's representative, Bradon J. Smith, Fletcher & Sippel LLC, 29 North Wacker Drive, Suite 800, Chicago, IL 60606-3208.

According to Railway LLC, this action is categorically excluded from environmental review under 49 CFR 1105.6(c) and from historic preservation reporting requirements under 49 CFR 1105.8(b).

Board decisions and notices are available at www.stb.gov.

Decided: December 31, 2020.
By the Board, Scott M. Zimmerman, Acting Director, Office of Proceedings.
Jeffrey Herzig,
Clearance Clerk.

[FR Doc. 2020-29256 Filed 1-5-21; 8:45 am]

BILLING CODE 4915-01-P